DEPARTMENT OF THE INTERIOR

Bureau of Land Management

[LLCAD06000 L51010000.ER0000 17XL5017AP LVRWB17B5120 CACA 051967]

Notice of Intent To Prepare a Joint Environmental Impact Statement/Environmental Impact Report and Possible Land Use Plan Amendment for the Proposed RE Crimson Solar Project, Riverside County, CA

AGENCY: Bureau of Land Management, Interior.

ACTION: Notice of intent.

SUMMARY: In compliance with the National Environmental Policy Act of 1969, as amended (NEPA), and the Federal Land Policy and Management Act of 1976, as amended (FLPMA), the Bureau of Land Management (BLM) Palm Springs-South Coast Field Office, Palm Springs, CA, intends to prepare a joint Environmental Impact Statement (EIS)/Environmental Impact Report (EIR), including a potential amendment to the California Desert Conservation Area (CDCA) Plan, and by this Notice is announcing the beginning of the scoping process to solicit public comments and identify issues.

DATES: This Notice initiates the public scoping process for the EIS/EIR and possible plan amendments. Comments on issues may be submitted in writing until April 9, 2018. The date(s) and location(s) of any scoping meetings will be announced at least 15 days in advance through local media, newspapers, and the BLM website at: https://eplanning.blm.gov/.

To be included in the Draft EIS/EIR, all comments must be received prior to the close of the 30-day scoping period or 15 days after the last public meeting, whichever is later. The BLM will provide additional opportunities for public participation upon publication of the Draft EIS/EIR.

ADDRESSES: The public may submit comments related to the RE Crimson Solar Project by any of the following methods:

• Website: https://eplanning.blm.gov/.

• Email: blm_ca_crimsonsolar@blm.gov.

• Fax: (541) 618-2400, ATTN: Miriam Liberatore, project manager, RE Crimson Solar.

• Mail: ATTN: Miriam Liberatore, project manager, RE Crimson Solar, Bureau of Land Management, 3040 Biddle Road, Medford, OR 97504.

Documents pertinent to this proposal may be examined at the BLM Palm Springs-South Coast Field Office located at 1201 Bird Center Drive, Palm Springs, CA 92262.

FOR FURTHER INFORMATION CONTACT: Miriam Liberatore, project manager, telephone (541) 618-2412; address Bureau of Land Management, 3040 Biddle Road, Medford, OR 97504; email: mliberat@blm.gov. Contact Ms. Liberatore to be added to the mailing list. Persons who use a telecommunications device for the deaf (TDD) may call the Federal Relay Service at (800) 877-8339, to contact the above individual during normal business hours. The Service is available 24 hours a day, 7 days a week, to leave a message or question with the above individual. Telephone replies will be returned during normal business hours.

SUPPLEMENTARY INFORMATION: Sonoran West Solar Holdings, LLC, a wholly owned subsidiary of Recurrent Energy LLC, has requested a right-of-way (ROW) authorization to construct, operate, maintain, and decommission a maximum 350 megawatt solar photovoltaic facility and necessary ancillary facilities, including battery storage, project substations, access roads, operations and maintenance buildings, and lay down areas.

The Project site consists of about 2,700-acres of BLM-administered land within the Riverside East Solar Energy Zone (SEZ). The Desert Renewable Energy Conservation Plan (DRECP) Land Use Plan Amendment also designated the area as a Development Focus Area (DFA).

This document provides notice that the BLM Palm Springs-South Coast Field Office and the California Department of Fish and Wildlife intend to jointly prepare an EIS/EIR, which may include a CDCA Plan Amendment, for the Project. It also announces the beginning of the scoping process for this effort and seeks public input on environmental issues and potential planning criteria relevant to the Project and any potential plan amendments. The public scoping process guides the planning process and determines the relevant issues that will influence the scope of the environmental analysis, including alternatives and environmental consequences.

Preliminary issues for the project have been identified by BLM personnel; Federal, State, and local agencies; and other stakeholders. The issues include: Air quality and greenhouse gas emissions; biological resources, including special status wildlife and vegetation species; cultural resources; geology and soils; hazards and hazardous materials; hydrology and water quality; lands and realty; mineral resources; noise; paleontological resources; recreation; socioeconomics and environmental justice; special designations; transportation and travel management; visual resources; wildland fire ecology; and areas with high potential for renewable energy development.

Written comments may be submitted to the BLM at a scoping meeting, or via one of the methods listed in the addresses section above. Input must be received by the close of the 30-day scoping period or within 15 days after the last public meeting, whichever is later.

By this Notice, the BLM is complying with requirements in 43 CFR 1610.2(c) to notify the public of potential amendments to the CDCA Plan, as amended, predicated on the findings in the EIS/EIR.

If one or more land use plan amendments are necessary, the BLM will integrate the land use planning process with the NEPA process for the Project. A preliminary list of the potential planning criteria that will be used to help guide and define the scope of the plan amendment includes:

1. The plan amendments will be completed in compliance with FLPMA, NEPA, and all other relevant Federal laws, executive orders, and BLM policies;

2. Existing valid plan decisions will not be changed and any new plan decisions will not conflict with existing plan decisions; and

3. The plan amendment(s) will recognize valid existing rights.

The public may submit comments to the BLM on issues and planning criteria in writing at any public scoping meeting, or by using one of the methods listed in the ADDRESSES section above.

The BLM will use and coordinate the NEPA scoping process to help fulfill the public involvement process under the National Historic Preservation Act (NHPA) (54 U.S.C. 306108 as provided in 36 CFR 800.2(d)(3)). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. With respect to the potential land use plan amendment, the BLM will evaluate identified issues to be addressed in the plan amendment, and will place them into one of three categories:

1. Issues to be resolved in the plan amendment;

2. Issues to be resolved through policy or administrative action; or

3. Issues beyond the scope of this plan amendment.

The BLM will provide an explanation in the Draft EIS/EIR as to why an issue was placed in category two or three. The public is also encouraged to help identify any management questions and concerns that should be addressed in the EIS/EIR and potential land use plan amendments. The BLM will work collaboratively with interested parties to identify the management decisions that are best suited to local, regional, and national needs and concerns.

The BLM will use an interdisciplinary approach to develop the EIS and potential land use plan amendments in order to consider the variety of resource issues and concerns identified. Specialists with expertise in the following disciplines will be involved in the planning process: Air, minerals and geology, outdoor recreation, archaeology, paleontology, wildlife and botany, lands and realty, hydrology, soils, sociology, and economics.

Authority: 40 CFR 1501.7 and 43 CFR 1610.2.

Danielle Chi,
BLM California Deputy State Director.

[FR Doc. 2018-04691 Filed 3-8-18; 8:45 am]

BILLING CODE 4310-40-P